DEPARTMENT OF JUSTICE

Drug Enforcement Administration

Manufacturer of Controlled Substances; Notice of Application; Correction

The Notice dated December 21, 2004, and published in the Federal Register on January 4, 2005, (70 FR 393), the drug code for Fentanyl was incorrect, for Organichem Corporation, 33 Riverside Avenue, Rensselaer, New York 12144. The correct drug code for Fentanyl is (9801). The Notice of Application should be corrected to reflect Fentanyl (9801).

Dated: March 29, 2005.
William J. Walker,
Deputy Assistant Administrator, Office of Diversion Control, Drug Enforcement Administration.

[FR Doc. 05-6793 Filed 4-5-05; 8:45 am]

BILLING CODE 4410-09-P